ENVIRONMENTAL PROTECTION AGENCY

40 CFR Part 300

[EPA-R04-SFUND-2010-0502; FRL-9194-3]

National Oil and Hazardous Substances Pollution Contingency Plan; National Priorities List

AGENCY: Environmental Protection Agency.

ACTION: Direct final rule.

SUMMARY: The Environmental Protection Agency (EPA) Region 4 is publishing this direct final Notice of Deletion for the Powersville Site Superfund Site (Site), located in Peach County, Georgia, from the National Priorities List (NPL) and requests public comments on this proposed action. The NPL, promulgated pursuant to section 105 of the Comprehensive Environmental Response, Compensation, and Liability Act (CERCLA) of 1980, as amended, is an appendix of the National Oil and Hazardous Substances Pollution Contingency Plan (NCP). The EPA and the State of Georgia, through the Georgia Environmental Protection Division (GAEPD), have determined that all appropriate response actions under CERCLA, other than operation, maintenance, and Five Year Reviews, have been completed. However, this deletion does not preclude future actions under Superfund.

DATES: This direct final deletion is effective November 1, 2010 unless EPA receives adverse comments by September 30, 2010. If adverse comments are received, EPA will publish a timely withdrawal of the direct final deletion in the Federal Register informing the public that the deletion will not take effect.

ADDRESSES: Submit your comments, identified by Docket ID No., EPA-R04-SFUND-2010-0502, by one of the following methods:

• http://www.regulations.gov. Follow the on-line instructions for submitting comments.

• Web site: http://www.epa.gov/region4/waste/sf/enforce.htm.

• E-mail: farrier.brian@epa.gov.

• Fax: (404) 562-8896, Attention: Brian Farrier.

• Mail: Brian Farrier, Remedial Project Manager, Superfund Remedial Section C, Superfund Remedial Branch, Superfund Division, U.S. Environmental Protection Agency, Region 4, 61 Forsyth Street, SW., Atlanta, Georgia 30303-8960.

Hand Delivery: U.S. Environmental Protection Agency, Region 4, 61 Forsyth Street, SW., Atlanta, Georgia 30303-8960. Such deliveries are only accepted during the Docket's normal hours of operation and special arrangements should be made for deliveries of boxed information.

Instructions: Direct your comments to Docket ID no. EPA-R04-SFUND-2010-0502. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in the hard copy. Publicly available docket materials are available either electronically in http://www.regulations.gov or in hard copy at: U.S. EPA Record Center, attn: Ms. Debbie Jourdan, Atlanta Federal Center, 61 Forsyth Street, SW., Atlanta, Georgia 30303-8960, Phone: (404) 562-8862, Hours 8 a.m.-4 p.m., Monday through Friday by appointment only; or, Thomas Public Library, 315 Martin Luther King, Jr. Drive, Fort Valley, GA 31030, Phone: 478-825-1640, Hours 9 a.m.-6 p.m., Monday through Thursday, 9 a.m.-1 p.m. Friday, closed Saturday and Sunday.

FOR FURTHER INFORMATION CONTACT: Brian Farrier, Remedial Project Manager, Superfund Remedial Section C, Superfund Remedial Branch, Superfund Division, U.S. Environmental Protection Agency, Region 4, 61 Forsyth Street, SW., Atlanta, Georgia 30303-8960. Mr. Farrier can be reached via electronic mail at farrier.brian@epa.gov.

SUPPLEMENTARY INFORMATION:

Table of Contents

I. Introduction

II. NPL Deletion Criteria

III. Deletion Procedures

IV. Basis for Site Deletion

V. Deletion Action

I. Introduction

EPA Region 4 is publishing this direct final Notice of Deletion of the Powersville Site Superfund Site from the NPL. The NPL constitutes Appendix B of 40 CFR part 300 which is the NCP, which EPA promulgated pursuant to section 105 of the CERCLA of 1980, as amended. EPA maintains the NPL as the list of sites that appear to present a significant risk to public health, welfare, or the environment. Sites on the NPL may be the subject of remedial actions financed by the Hazardous Substance Superfund (Fund). As described in the Section 300.425(e)(3) of the NCP, Sites deleted from the NPL remain eligible for Fund-financed remedial actions if conditions at a deleted Site warrant such actions.

Because EPA considers this action to be noncontroversial and routine, this action will be effective November 1, 2010 unless EPA receives adverse comments by September 30, 2010. Along with this direct final Notice of Deletion, EPA is co-publishing a Notice of Intent To Delete in the “Proposed Rules” section of the Register. If adverse comments are received within the 30-day public comment period on this deletion action, EPA will publish a timely withdrawal of this direct final Notice of Deletion before the effective date of the deletion, and the deletion will not take effect. EPA will, as appropriate, prepare a response to comments and continue with the deletion process on the basis of the Notice of Intent To Delete and the comments already received. There will be no additional opportunity to comment.

Section II of this document explains the criteria to delete sites from the NPL. Section III discusses procedures that EPA is using for this action. Section IV discusses the Powersville Site Superfund Site and demonstrates how it meets the deletion criteria. Section V discusses EPA's action to delete the Site from the NPL unless adverse comments are received during the public comment period.

II. NPL Deletion Criteria

The NCP establishes the criteria that EPA uses to delete sites from the NPL. In accordance with 40 CFR 300.425(e), sites may be deleted from the NPL where no further response is appropriate. In making such a determination pursuant to 40 CFR 300.425(e), EPA will consider, in consultation with the State, whether any of the following criteria have been met:

i. Responsible parties or other persons have implemented all appropriate response actions required;

ii. All appropriate Fund-financed (Hazardous Substance Superfund) response under CERCLA has been implemented, and no further response action by responsible parties is appropriate; or

iii. The remedial investigation has shown that the release poses no significant threat to public health or the environment and, therefore, the taking of remedial measures is not appropriate.

Pursuant to CERCLA section 121(c) and the NCP, EPA conducts five-year reviews to ensure the continued protectiveness of remedial actions where hazardous substances, pollutants, or contaminants remain at a site above levels that allow for unlimited use and unrestricted exposure. EPA conducts such five-year reviews even if a site is deleted from the NPL. EPA may initiate further action to ensure continued protectiveness at a deleted site if new information becomes available that indicates it is appropriate. Whenever there is a significant release from a Site deleted from the NPL, the deleted Site may be restored to the NPL without application of the Hazard Ranking System.

III. Deletion Procedures

The following procedures apply to deletion of the Site:

(1) EPA consulted with the State of Georgia before developing this direct final Notice of Deletion and the Notice of Intent To Delete co-published today in the “Proposed Rules” section of the Federal Register.

(2) EPA has provided the state 30 working days for review of this notice and the parallel Notice of Intent To Delete prior to their publication today, and the state, through the GAEPD, has concurred on the deletion of the Site from the NPL.

(3) Concurrently with the publication of this direct final Notice of Deletion, a notice of the availability of the parallel Notice of Intent to Delete is being published in a major local newspaper, [Enter major local newspaper of general circulation]. The newspaper notice announces the 30-day public comment period concerning the Notice of Intent to Delete the Site from the NPL.

(4) The EPA placed copies of documents supporting the proposed deletion in the deletion docket and made these items available for public inspection and copying at the Site information repositories identified above.

(5) If adverse comments are received within the 30-day public comment period on this deletion action, EPA will publish a timely notice of withdrawal of this direct final Notice of Deletion before its effective date and will prepare a response to comments and continue with the deletion process on the basis of the Notice of Intent to Delete and the comments already received.

Deletion of a Site from the NPL does not itself create, alter, or revoke any individual's rights or obligations. Deletion of a Site from the NPL does not in any way alter EPA's right to take enforcement actions, as appropriate. The NPL is designed primarily for informational purposes and to assist EPA management. Section 300.425(e)(3) of the NCP states that the deletion of a Site from the NPL does not preclude eligibility for future response actions, should future conditions warrant such actions.

IV. Basis for Site Deletion

The following information provides EPA's rationale for deleting the Site from the NPL:

Site Background and History

Powersville Site Superfund Site, GA Hwy. 49 N., Powersville, Georgia 31074. EPA ID: GAD980496954.

The Powersville Site, located on GA Hwy. 49 N. in Powersville, Georgia, occupies approximately 15 acres in a predominantly rural area. From the early 1940s to 1969, this landfill was a borrow pit which provided sand and fill material to the county for local use. During 1969, Peach County began operation of a sanitary landfill receiving both municipal and industrial wastes. Disposal records indicate that pesticide manufacturing wastes were disposed in the landfill until 1978. In 1972, the State of Georgia suggested a separate area be maintained for pesticide wastes, which was done in 1973. Disposal records indicate pesticide wastes were disposed in the municipal section of the landfill prior to June 1973 and in the hazardous waste area between June 1973 and 1978. Neither the quantity nor the location of the pesticide wastes in the municipal section of the landfill is known. The County closed the landfill in 1979. The primary contaminants of concern at the Site include, but are not limited to, vinyl chloride, 1,2-dichloroethane, lead, chromium, and pesticides. The Site was proposed for the NPL September 8, 1983 (48 FR 40674) and finalized on the NPL October 15, 1984 (49 FR 40320).

Remedial Investigation, Feasibility Study (RI/FS)

The Remedial Investigation (RI) and Feasibility Study (FS) were conducted between December 28, 1984 and September 30, 1987.

Analytical results of the RI sampling indicated the presence of gamma-BHC, 1,2-dichloroethane, lead, chromium, and vinyl chloride in the groundwater beneath the Site; however, well-defined plumes did not exist. The pesticides gamma-BHC, dieldrin, chlordane, and toxaphene were also detected in the soil samples taken at the Site. Off-site soil samples were found to have no detectable chemical concentrations.

The FS evaluated 13 alternatives including various combinations of capping for the landfill, incineration, solidification/stabilization, pump and treat of groundwater, and alternative water sources.

Selected Remedy

EPA's Record of Decision (ROD) was signed on September 30, 1987, and the State of Georgia concurred with the selected remedy. The selected alternative included the following:

• Surface cover systems for the hazardous waste and municipal landfill area;

• Installation of a minimum of eight additional groundwater monitoring wells;

• Provision of an alternative water supply for selected residents near site;

• Imposition of on-site and off-site deed restrictions to prohibit specific actions; and

• Development and implementation of an operation and maintenance (O&M) plan for the remedy.

The remedial objective for the Powersville Site was to eliminate potential health hazards due to the impact of gamma-BHC, vinyl chloride, 1,2-dichloroethane, lead, chromium, and toxaphene in the landfill.

Remedy Implementation

Remedy Component 1—Surface Cover

A low permeability liner was installed over both the hazardous waste disposal area and the municipal waste disposal area. The municipal waste area liner consists of a 40 ml thick high density polyethylene (HDPE) liner. The hazardous waste area liner has an additional 0.25 inch thick bentonite liner. The liners are covered with 1.5 feet of sandy soil for better drainage. Two feet of soil is then layered on top of the liner. A vegetative layer was then used to secure the soil cover. Terracing was used to alleviate the steepness of the slope to reduce erosional issues. Other grading was done to divert stormwater away from either landfill cover.

Remedy Component 2—Installation of Groundwater Monitoring Wells

The groundwater monitoring system was designed to yield samples from the uppermost aquifer that are representative of the water that passes through the downgradient area of the landfill site. There were two existing wells. Seven more were added (6 downgradient, 1 upgradient). These seven wells were installed during three separate field events and were intended to monitor the natural attenuation of contaminants in the groundwater.

Remedy Component 3—Alternate Water Source

The alternate water supply system is owned and operated by the Fort Valley Utility Commission. The municipal water system was extended to include the properties possibly affected by the site. The Fort Valley Utility Commission conducts O & M on the water supply system.

Remedy Component 4—Institutional Controls

On December 1, 1994 a Notation on Deed was filed on the landfill property. The notation states that the property is on Georgia's hazardous site inventory and has been designated as needing corrective action due to the presence of hazardous wastes, hazardous constituents, or hazardous substances. The site itself was required by the ROD to have deed restrictions placed upon it to prohibit the drilling of water wells and any activities that could cause damage to the remedy. In addition, properties between the Site and the unnamed tributary to Mule Creek were required by the ROD to have deed restrictions placed upon them to prohibit the drilling of water wells. The method for executing the deed restrictions was through restrictive covenant agreements. In 1993, restrictive covenants were placed on six properties adjacent to the landfill prohibiting the drilling of water wells. On March 23, 2010, a restrictive covenant was recorded for the landfill parcel. All institutional controls needed at the Site have been implemented.

Remedy Component 5—Operation & Maintenance Plan

There are eight major tasks involved in the schedule for ordinary O&M activities. They are the following:

• Groundwater Monitoring—The groundwater monitoring program consisted of quarterly monitoring from 1993 to 2005, with samples collected from monitoring wells MW2, MW7, MW20, MW21, MW22, MW23, MW24, MW25, and MW26. All samples were analyzed for Volatial Organic Compounds (VOC), pesticides, and metals. This activity has been discontinued.

• Maintenance of Vegetation—Mowing of the covers and other vegetated site areas is conducted twice per year. Fertilization of the covers is conducted once per year. Lime may be added every four to six years to maintain a pH between 6 and 7.

• Cover Settlement—Inspection and monitoring for cover settlement was conducted quarterly for the first two years then semi-annually since that time.

• Site Structure—The following structures are inspected quarterly: concrete channels, rip rap, fence and signs, drainage areas, benchmarks, gas vents, settlement monitoring stations, all guard posts, and cover drainage pipes cleanout ports. Repairs are performed as needed.

• Gas Production Monitoring—Each gas vent is checked semi-annually for the first two years and has been annually since that time.

• Cost Estimate Updates—The cost estimate is updated annually.

• Deed Restrictions—In 1993, restrictive covenants were placed on six properties adjacent to the landfill prohibiting the drilling of water wells. On March 23, 2010, a restrictive covenant was recorded for the landfill parcel. All institutional controls needed at the Site have been implemented.

• Deliverables—Regular reports are submitted to the O&M administrator, GEPD, and EPA.

Cleanup Goals

The cleanup goals for soil and groundwater are shown on the following tables. The cleanup goals for surface water were considered to be the same as groundwater as implied by the ROD.

Cleanup Levels for Groundwater
Contaminant | ROD cleanup goals (μg/L) | Revised EPA cleanup goals (μg/L)
gamma-BHC | 4 | 4
vinyl chloride | 1 | 2
1,2-dichloroethane | 5 | 5
Lead | 50 | 15
Chromium | 50 | 100
Toxaphene | N/A | 3

Nine groundwater monitoring wells were sampled quarterly from 1993 until 2005 when groundwater contaminant levels reached the cleanup goals shown above. On July 19, 2006, GAEPD notified EPA that groundwater monitoring would be discontinued and requested EPA pursue deleting the Site from the NPL. The groundwater data from 2004 through 2005 were below cleanup goals for 1,2-dichloroethane, lead, and chromium, except for one detection of chromium at 410 ug/L during the third quarter 2004 (EPA, 2008).

Operation and Maintenance

As mentioned in Remedy Component 5, there are eight major tasks outlined as part of O&M. The county has assumed responsibility for implementing the ongoing components of the 1993 O&M plan.

Five-Year Reviews

The first five-year review was completed in December 1997 and the second was completed in September 2003. These reviews concluded that the selected remedy remains protective of human health and the environment.

The third statutory Five-Year Review was completed in September 2008 pursuant to EPA's Comprehensive Five-Year Review Guidance (OSWER No. 9355.7-03B-P, June 2001). The Five-Year Review concluded that remedial actions at the Powersville Site Superfund Site are protective, in the short-term, of human health and the environment, and exposure pathways that could result in unacceptable risks are being controlled. However, in order for the remedy to be protective in the long term, it was determined that restrictive covenants were still needed on three parcels. Those parcels were the landfill, the Peach County parcel acquired from the Trustees of Powersville Lodge No. 134 located adjacent to the landfill, and parcel No. 043B 002 owned by Adele Hogan. The Trustees of Powersville Lodge No. 134 parcel has been combined with the landfill parcel and does not need a separate restrictive covenant. EPA has also determined that the Hogan parcel is not impacted by contaminated groundwater and therefore does not need a restrictive covenant. On March 23, 2010, a restrictive covenant was recorded for the landfill parcel in the Office of the Clerk, Superior Court, Peach County, Georgia, at Deed Book 438, pages 341-345. All institutional controls required at the Site have been implemented.

Because hazardous materials remain at the Site inside the landfill above levels that allow for unlimited use and unrestricted exposure, Section 121 of CERCLA requires ongoing statutory review to be conducted no less than every five years from the start of remedial actions. The next Five-Year Review will be completed by August 2013.

Community Involvement

Throughout the removal and remedial process, EPA has kept the public informed of the activities being conducted at the Site by way of public meetings, progress fact sheets, and the announcement through local newspaper advertisement on the availability of documents such as the RI/FS, Risk Assessment, ROD, Proposed Plan and Five-Year Reviews.

Public participation activities have been satisfied as required in CERCLA section 113(k), 42 U.S.C. 9613(k), and CERCLA section 117, 42 U.S.C. 9617. Documents in the deletion docket which EPA relied on for recommendation of the deletion from the NPL are available to the public in the information repositories identified above.

Determination That the Site Meets the Criteria for Deletion From the NCP

This Site meets all the Site completion requirements as specified in Office of Solid Waste and Emergency Response (OSWER) Directive 9320.2-09-A-P, Close Out Procedures for National Priorities List Sites. Specifically, confirmatory sampling verifies that the Site has achieved the ROD cleanup standards, and that all cleanup actions specified in the ROD have been implemented. The only remaining activity to be performed is O&M that Peach County will conduct.

V. Deletion Action

The EPA, with concurrence of the State of Georgia through the GAEPD, has determined that all appropriate response actions under CERCLA, other than operation, maintenance, monitoring and five-year reviews have been completed. Therefore, EPA is deleting the Site from the NPL.

Because EPA considers this action to be noncontroversial and routine, EPA is taking it without prior publication. This action will be effective November 1, 2010 unless EPA receives adverse comments by September 30, 2010. If adverse comments are received within the 30-day public comment period, EPA will publish a timely withdrawal of this direct final notice of deletion before the effective date of the deletion, and it will not take effect. EPA will prepare a response to comments and continue with the deletion process on the basis of the notice of intent to delete and the comments already received. There will be no additional opportunity to comment.

List of Subjects in 40 CFR Part 300

Environmental protection, Air pollution control, Chemicals, Hazardous waste, Hazardous substances, Intergovernmental relations, Penalties, Reporting and recordkeeping requirements, Superfund, Water pollution control, Water supply.

Dated: August 3, 2010.
A. Stanley Meiburg,
Acting Regional Administrator, Region 4.

For the reasons set out in this document, 40 CFR part 300 is amended as follows:

PART 300—[AMENDED]

1. The authority citation for part 300 continues to read as follows:

Authority: 33 U.S.C. 1321(c)(2); 42 U.S.C. 9601-9657; E.O. 12777, 56 FR 54757, 3 CFR, 1991 Comp., p. 351; E.O. 12580, 52 FR 2923; 3 CFR, 1987 Comp., p. 193.

2. Table 1 of Appendix B to part 300 is amended by removing “Powersville Site, Peach County, GA”.

[FR Doc. 2010-21442 Filed 8-30-10; 8:45 am]

BILLING CODE 6560-50-P